NATIONAL TRANSPORTATION SAFETY BOARD

Agenda; Sunshine Meeting Act

Time and Date: 9:30 a.m., Tuesday, July 10, 2007.

Place: NTSB Conference Center, 429 L'Enfant Plaza, SW., Washington, DC 20594.

Status: The one item is open to the public.

Matter To Be Considered

7901 Highway Accident Report—Ceiling Collapse in the Interstate 90 Connector Tunnel, Boston, Massachusetts, July 10, 2006 (HWY-06-MH-024).

News Media Contact: Telephone: (202) 314-6100.

Individuals requesting specific accommodations should contact Chris Bisett at (202) 314-6305 by Friday, July 6, 2007.

The public may view the meeting via a live or archived webcast by accessing a link under “News & Events” on the NTSB home page at www.ntsb.gov.

FOR FURTHER INFORMATION CONTACT: Vicky D'Onofrio, (202) 314-6410.

Dated: June 29, 2007.
Vicky D'Onofrio,
Federal Register Liaison Officer.

[FR Doc. 07-3263 Filed 6-29-07; 3:24 pm]

BILLING CODE 7533-01-M